DEPARTMENT OF EDUCATION

[CFDA Nos: 84.334A and 84.334S]

Office of Postsecondary Education, Teacher and Student Development Programs Service

ACTION: Notice Announcing Technical Assistance Workshops for fiscal year (FY) 2008 Gaining Early Awareness and Readiness for Undergraduate Programs (GEAR UP) program.

SUMMARY: The Department expects to hold competitions for new State and Partnership grants under the GEAR UP program in FY 2008. This notice provides information about four one-day technical assistance workshops to assist institutions of higher education, local educational agencies, and States interested in preparing grant applications for FY 2008 new awards under the GEAR UP program. Program staff will present information about the purpose of the GEAR UP Program, selection criteria, application content, submission procedures, and matching and reporting requirements.

Although the Department has not yet announced an application deadline date in the Federal Register for the FY 2008 competitions, the Department is holding these workshops to give potential applicants guidance for preparing applications for the competitions we expect to conduct in FY 2008. Specific requirements for the FY 2008 competitions will be published in a separate Federal Register notice. This notice announces the technical assistance workshops only.

FOR FURTHER INFORMATION CONTACT: Angela K. Oliphant, GEAR UP Program, U.S. Department of Education, 1990 K Street, NW., Room 6133, Washington, DC 20006-8524. Telephone: (202) 502-7676.

If you use a telecommunications device for the deaf (TDD), call the Federal Relay Service (FRS) at 1-800-877-8339.

Individuals with disabilities can obtain this document in an alternative format (e.g., Braille, large print, audio tape, or computer diskette) on request to the contact person listed in this section.

SUPPLEMENTARY INFORMATION: The technical assistance workshops will be held as follows:

1. Sacramento, CA: Monday, September 10, 2007. Miyako Hotel, 1625 Post Street, San Francisco, CA 94115, Telephone: 415-922-3200.

2. Chicago, IL: Wednesday, September 12, 2007. Radisson Hotel Northbrook, 2875 N. Milwaukee Avenue, Northbrook, IL 60062, Telephone: 847-298-2525.

3. Atlanta, GA: Friday, September 14, 2007. Hilton Atlanta, 255 Courtland Street NE., Atlanta, Georgia, 30303, Telephone: 404-659-2000.

4. Philadelphia, PA: Monday, September 17, 2007. The Ritz Carlton, Ten Avenue of the Arts, Philadelphia, PA 19102, Telephone: 215-523-8000.

All Technical Assistance Workshop sessions will be conducted from 9 a.m. to 5 p.m. each day. Registration is from 8 a.m. to 9 a.m. on the day of the session. There is no fee for these workshops. However, space is limited. Attendees are required to make their own reservations directly with the hotel. The Department has reserved a limited number of rooms at each of the hotel sites at a special government room rate. To reserve this rate, be certain to inform the hotel that you are attending the “U.S. Department of Education GEAR UP Program Technical Assistance Workshop.” We encourage attendance from those who will be responsible for providing technical support for uploading the application materials onto the Grants.gov Apply site.

Assistance to Individuals with Disabilities Attending the Technical Assistance Workshop

The technical assistance workshop site is accessible to individuals with disabilities. If you need an auxiliary aid or service to participate in the workshop (e.g., interpreting service, assistive listening device, or materials in an alternative format), notify the contact person listed under FOR FURTHER INFORMATON CONTACT at least two weeks before the scheduled workshop date. Although we will attempt to meet a request received after that date, we may not be able to make available the requested auxiliary aid or service because of insufficient time to arrange it.

Electronic Access to This Document

You can view this document, as well as all other documents of this Department published in the Federal Register, in text or Adobe Portable Document Format (PDF) on the Internet at the following site: http://www.ed.gov/news/fedregister.

To use PDF, you must have Adobe Acrobat Reader, which is available free at this site. If you have any questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1070a-21.

Dated: September 7, 2007.
Diane Auer Jones,
Assistant Secretary for Postsecondary Education.

[FR Doc. 07-4471 Filed 9-10-07; 8:45 am]

BILLING CODE 4000-01-P